ELECTION ASSISTANCE COMMISSION

Sunshine Act Notice

AGENCY: U.S. Election Assistance Commission.

ACTION: Notice of public meeting and hearing agenda (amended).

Date and Time: Tuesday, March 17, 2009, 11 a.m.-12 p.m. EST (Meeting), 1-3 p.m. EST (Hearing).

Place: U.S. Election Assistance Commission, 1225 New York Ave., NW., Suite 150, Washington, DC 20005 (Metro Stop: Metro Center).

Agenda: The Commission will hold a public meeting to consider administrative matters. The Commission will conduct a public hearing to receive presentations on the following topic: Voter Registration Databases: Initial Discussion on Reviewing HAVA Mandated Guidance. Members of the public may submit written testimony regarding HAVA mandated guidance on voter registration databases via e-mail at testimony@eac.gov, or via mail addressed to the U.S. Election Assistance Commission 1225 New York Ave., NW., Suite 1100, Washington, DC 20005, or by fax at 202-566-3127. Written testimony must be received by 5 p.m. EST on Monday, March 16, 2009. All testimony should have the heading “Testimony on voter registration databases” in the subject/attention line. Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

Person to Contact for Information: Bryan Whitener, Telephone: (202) 566-3100.

Thomas R. Wilkey,
Executive Director, U.S. Election Assistance Commission.

[FR Doc. E9-5363 Filed 3-9-09; 4:15 pm]

BILLING CODE 6820-KF-P